DEPARTMENT OF STATE

[Public Notice 3634]

Office of Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to sections 36(c) and 36(d) and in compliance with section 36(e) of the Arms Export Control Act (22 U.S.C. 2776).

EFFECTIVE DATE: March 1 and 12, 2001.

FOR FURTHER INFORMATION CONTACT: Mr. William J. Lowell, Director, Office of Defense Trade Controls, Bureau of Political-Military Affairs, Department of State (202 663-2700).

SUPPLEMENTARY INFORMATION: Section 38(e) of the Arms Export Control Act mandates that notifications to the Congress pursuant to sections 36(c) and 36(d) must be published in the Federal Register when they are transmitted to Congress or as soon thereafter as practicable.

Dated: March 22, 2001.
William J. Lowell,
Director, Office of Defense Trade Controls, Department of State.

Department of State

March 1, 2001.

The Honorable J. Dennis Hastert.

Speaker of the House of Representatives.

Dear Mr. Speaker: Pursuant to section 36(c) of the Arms Export Control Act, I am transmitting herewith certification of a proposed license for the export of defense articles or defense services sold commercially under a contract in the amount $50,000,000 or more.

The transaction contained in the attached certification involves ongoing activities associated with technical assistance agreements with Russia beyond those addressed in DTC 39-98, dated March 19, 1998, DTC 98-99, dated August 5, 1999, and DTC 014-00, dated March 7, 2000, providing for the marketing and sale of satellite launch services utilizing Proton rocket boosters and the performance of associated integration and launch services from Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

Michael A. Guest

Acting Assistant Secretary, Legislative Affairs.

Enclosure: Transmittal No. DTC 034-01

Department of State

March 12, 2001.

The Honorable J. Dennis Hastert.

Speaker of the House of Representatives.

Dear Mr. Speaker: Pursuant to section 36(c) of the Arms Export Control Act, I am transmitting herewith certification of a proposed license for the export of defense articles or defense services sold commercially under a contract in the amount $50,000,000 or more.

The transaction contained in the attached certification involves the export of the MTSAT-1R satellite and associated ground equipment to the Japanese Ministry of Transport. The satellite will provide meteorological information to the Japanese Meteorological Agency as well as civil aviation communications for the Japanese Civil Aviation Bureau. The satellite is planned for launch from either Japan or French Guiana.

The United States Government is prepared to license the export of these items having taken into account political, military, economic, human rights, and arms control considerations.

More detailed information is contained in the formal certification which, though unclassified, contains business information submitted to the Department of State by the applicant, publication of which could cause competitive harm to the United States firm concerned.

Sincerely,

Michael A. Guest,

Acting Assistant Secretary, Legislative Affairs.

Enclosure: Transmittal No. DTC 006-01

[FR Doc. 01-8809 Filed 4-9-01; 8:45 am]

BILLING CODE 4710-25-U